DEPARTMENT OF HEALTH AND HUMAN SERVICES

Health Care Financing Administration

42 CFR Parts 431, 433, 435, 436, and 457

[HCFA-2006-F2]

RIN 0938-AI28

State Child Health; Implementing Regulations for the State Children's Health Insurance Program: Delay of Effective Date

AGENCY: Health Care Financing Administration (HCFA), HHS.

ACTION: Final rule; delay of effective date.

SUMMARY: In accordance with the memorandum of January 20, 2001, from the Assistant to the President and Chief of Staff, entitled “Regulatory Review Plan,” published in the January 24, 2001 Federal Register, this action temporarily delays for 60 days the effective date of the final rule entitled “State Child Health; Implementing Regulations for the State Children's Health Insurance Program” published in the January 11, 2001 Federal Register (66 FR 2490). That final rule implements provisions of the Balanced Budget Act of 1997 (BBA) related to the State Children's Health Insurance Program (SCHIP). Specifically, the final rule includes provisions related to State plan requirements and plan administration, coverage and benefits, eligibility and enrollment, enrollee financial responsibility, strategic planning, substitution of coverage, program integrity, certain allowable waivers, and applicant and enrollee protections. This final rule also implements the provisions of sections 4911 and 4912 of the BBA, which amended title XIX of the Social Security Act to expand State options for coverage of children under the Medicaid program. In addition, this final rule makes technical corrections to subparts B and F of 42 CFR part 457.

The effective date of that rule, which would have been April 11, 2001, is now June 11, 2001. The temporary 60-day delay in effective date is necessary to give Department officials the opportunity for further review and consideration of new regulations, consistent with the Assistant to the President's memorandum of January 20, 2001. To the extent that 5 U.S.C. section 553 applies to this action, it is exempt from notice and comment because it constitutes a rule of procedure under 5 U.S.C. section 553(b)(3)(a). Alternatively, HCFA's implementation of this rule without opportunity for public comment, effective immediately upon publication today in the Federal Register, is based on the good cause exceptions in 5 U.S.C. sections 553(b)(3)(B) and 553(d)(3), in that seeking public comment is impracticable, unnecessary, and contrary to the public interest. Given the imminence of the effective date, seeking prior public comment on this temporary delay would have been impractical, as well as contrary to the public interest, in the orderly promulgation and implementation of regulations.

The effective date of the rule amending 42 CFR parts 431, 433, 435, 436, and 457 published in the January 11, 2001 Federal Register (66 FR 2490) is delayed 60 days until June 11, 2001.

FOR FURTHER INFORMATION CONTACT: Regina Fletcher (410) 786-3293.

(Catalog of Federal Domestic Assistance Program No. 93.767, State Children's Insurance Program)

Dated: February 21, 2001.
Michael McMullan,
Acting Deputy Administrator, Health Care Financing Administration.
Approved: February 22, 2001.
Tommy G. Thompson,
Secretary.

[FR Doc. 01-4737 Filed 2-22-01; 1:53 pm]

BILLING CODE 4120-01-M